DEPARTMENT OF COMMERCE

National Oceanic and Atmospheric Administration

Proposed Information Collection; Comment Request; Northwest Region Federal Fisheries Permits

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 17, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Kevin Ford, (206) 526-6115 or Kevin.Ford@noaa.gov.

SUPPLEMENTARY INFORMATION:

I. Abstract

The National Marine Fisheries Service (NMFS) Northwest Region manages the U.S. groundfish fisheries of the Exclusive Economic Zone (EEZ) off Washington, Oregon and California under the Pacific Coast Fishery Management Plan. In its consideration of a groundfish trawl rationalization program, the Pacific Fishery Management Council (PFMC) has requested that NMFS collect detailed information for owners of trawl endorsed limited entry permits in order to develop an appropriate policy. The recent reauthorization of the Mangnuson-Stevens Fishery Conservation and Management Act (MSA) placed a deadline on the PFMC to complete its consideration of the trawl rationalization program. Further, the MSA (Section 303A(5)(B)(ii)) requires that the Secretary of Commerce consider procedures to address concerns over excessive geographic and/or other consolidation in harvesting and processing sectors of the fishery. NMFS would request that all trawl endorsed permit owners who are business entities to provide the names of individuals who have an ownership interest in the entity and the percentage of interest held in the entity by such individuals. This information would be requested annually on a voluntary basis.

In addition, NMFS would revise its existing sablefish ownership interest form to request that all business entities who own or hold a sablefish permit to provide the percentage of ownership interest each individual has in the business entity. This information about the percentage of ownership interest by an individual would be requested on a voluntary basis.

II. Method of Collection

Paper applications would be provided to potential respondents and the methods of submission would include fax or mail.

III. Data

OMB Number: 0648-0203.

Form Number: None.

Type of Review: Regular submission.

Affected Public: Not-for-profit institutions; and business or other for-profits organizations.

Estimated Number of Respondents: 90.

Estimated Time per Response: 30 minutes to prepare and mail response.

Estimated Total Annual Burden Hours: 45 hours.

Estimated Total Annual Cost to Public: $64,677.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 11, 2007.
Gwellnar Banks,
Management Analyst, Office of the Chief Information Officer.

[FR Doc. E7-20410 Filed 10-16-07; 8:45 am]

BILLING CODE 3510-22-P